COMMISSION ON CIVIL RIGHTS

Notice of Public Meeting of the New Mexico Advisory Committee; Correction

AGENCY: Commission on Civil Rights.

ACTION: Notice; update briefing agenda; correction.

SUMMARY: The Commission on Civil Rights published a notice in the Federal Register on Friday, November 1, 2024, concerning a briefing of the New Mexico Advisory Committee. The briefing agenda has since changed.

FOR FURTHER INFORMATION CONTACT: Brooke Peery, bpeery@usccr.gov. 202-701-1376.

SUPPLEMENTARY INFORMATION:

Correction

In the Federal Register on Friday, November 1, 2024, in FR Document Number 2024-25473, at 87 FR 87327-28, third and first columns, the agenda is corrected to read as follows:

I. Welcoming Opening Remarks

II. Panelist Remarks

III. Committee Q&A

IV. Public Comment

V. Business Meeting

VI. Adjournment

The briefing time will remain the same: 1 p.m.-3 p.m. central time. In addition, the link to join will remain the same: https://www.zoomgov.com/webinar/register/WN_p0x3OMwRQzGARkRtkiE0tQ.

Dated: November 19, 2024.
David Mussatt,
Supervisory Chief, Regional Programs Unit.

[FR Doc. 2024-27436 Filed 12-5-24; 8:45 am]

BILLING CODE P